DEPARTMENT OF HOUSING AND URBAN DEVELOPMENT

[Docket No. FR-5380-N-07]

Notice of Proposed Information Collection: Comment Request; Technical Processing Requirements for Multifamily Project Mortgage Insurance

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: April 12, 2010.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Leroy.MckinneyJr@HUD.gov or telephone (202) 402-8048 or the number for the Federal Information Relay Service (1-800-877-8339).

FOR FURTHER INFORMATION CONTACT: Joyce Allen, Director, Office of Multifamily Development, Department of Housing and Urban Development, 451 7th Street, SW., Washington, DC 20410, telephone (202) 708-1142 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Technical Processing Requirements for Multifamily Project Mortgage Insurance.

OMB Control Number, if applicable: 2502-New.

Description of the need for the information and proposed use: The information collection is analyzed by HUD during the four technical discipline phases of an application for mortgage insurance—underwriting, valuation, architectural, and mortgage credit analysis. HUD performs each phase during the application process to ensure the financial, physical, and environmental soundness of the project, as well as the potential insurance risk. Sponsors, mortgagors and contractors are required to undergo a thorough examination to determine their solvency, reliability, past experience, and dependability to develop, build, and operate the type of multifamily housing project they propose.

Agency form numbers, if applicable: HUD-92466, HUD-2456, HUD-92450, HUD-92443, HUD-3305, HUD-3306, HUD-92403.1, FHA-2415, HUD-92283, FHA-2455, FHA-1710, HUD-92433, and FHA 2459.

Estimation of the total number of hours needed to prepare the information collection including number of respondents, frequency of response, and hours of response: The number of burden hours is 9,250. The number of respondents is 9,250. The estimated number of annual responses is 11,050. The frequency of each response is once for each application submitted for mortgage insurance.

Status of the proposed information collection: This is a new collection.

Authority: The Paperwork Reduction Act of 1995, 44 U.S.C., Chapter 35, as amended.

Dated: February 4, 2010.
Ronald Y. Spraker,
Associate General Deputy Assistant Secretary for Housing.

[FR Doc. 2010-2834 Filed 2-9-10; 8:45 am]

BILLING CODE 4210-67-P